DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Consumer Assessment of Healthcare Providers and Systems (CAHPS) Clinician and Group Survey Comparative Database.” In accordance with the Paperwork Reduction Act, 44 U.S.C. 3501-3521, AHRQ invites the public to comment on this proposed information collection.

This proposed information collection was previously published in the Federal Register on November 28th, 2011 and allowed 60 days for public comment. No substantive comments were received. The purpose of this notice is to allow an additional 30 days for public comment.

DATES: Comments on this notice must be received by March 2, 2012.

ADDRESSES: Written comments should be submitted to: AHRQ's OMB Desk Officer by fax at (202) 395-6974 (attention: AHRQ's desk officer) or by email at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Consumer Assessment of Healthcare Providers and Systems (CAHPS) Clinician and Group Survey Comparative Database

The Agency for Healthcare Research and Quality (AHRQ) requests that the Office of Management and Budget (OMB) approve, under the Paperwork Reduction Act of 1995, AHRQ's collection of information for the AHRQ Consumer Assessment of Healthcare Providers and Systems (CAHPS) Database for Clinicians and Groups. The CAHPS Clinician and Group Database (CAHPS CG Database) consists of data from the AHRQ CAHPS Clinician and Group Survey (CAHPS CG Survey). Health systems administrators, medical groups and medical practitioners in the U.S. are asked to voluntarily submit data from the CAHPS CG Survey to AHRQ through its contractor.

Dating back to the first phase of the CAHPS program (1996-2000), the CAHPS Consortium recognized the need for a standardized, evidence-based instrument that would gather data on patients' experiences with physicians and staff in outpatient medical practices, enabling clinicians and administrators to assess and improve patients' experiences with medical care. In 1999, the Consortium began work on a survey that would assess patients' experiences with medical groups and clinicians. Working in collaboration with the Pacific Business Group on Health, whose Consumer Assessment Survey established a precedent for this type of instrument; the CAHPS Consortium developed a preliminary instrument known as the CAHPS Group Practices Survey (G-CAHPS).

In August 2004, AHRQ issued a notice in the Federal Register inviting organizations to test this instrument. These field test organizations were crucial partners in the evolution and development of the instrument, and provided critical data illuminating key aspects of survey design and administration. In July 2007 the CAHPS CG Survey was endorsed by the National Quality Forum (NQF), an organization established to standardize health care quality measurement and reporting. The endorsement represents the consensus of many health care providers, consumer groups, professional associations, purchasers, federal agencies, and research and quality organizations. The CAHPS CG Survey and related toolkit materials are available on the CAHPS web site at http://www.cahps.AHRO.gov/cahpskit/CG/CGChooseQX.asp. Since its release, the survey has been used by thousands of physicians and medical practices across the U.S.

The current CAHPS Consortium includes AHRQ, the Centers for Medicare & Medicaid Services (CMS), RAND, Yale School of Public Health, and Westat.

AHRQ has developed the database for CAHPS CG Survey data following the CAHPS Health Plan Database as a model. The CAHPS Health Plan Database was developed in 1998 in response to requests from health plans, purchasers, and CMS for comparative data to support public reporting of health plan ratings, health plan accreditation and quality improvement (OMB Control Number 0935-0165, Expiration Date 7/31/2013). Demand for comparative results from the CG Survey has grown as well, and therefore AHRQ has developed a dedicated CG Database to support benchmarking, quality improvement, and research.

The CAHPS CG Database contains data from AHRQ's standardized CAHPS CG Survey, which provides comparative measures of quality to health care purchasers, consumers, regulators, and policy makers. The Database also provides data for AHRQ's annual National Healthcare Quality and National Healthcare Disparities Reports.

Health systems, medical groups and practices that administer the CAHPS CG Survey according to CAHPS specifications can participate in this project. A health system is a complex of facilities, organizations, and providers of health care in a specified geographic area. A medical group is defined as a medical group, Accountable Care Organization (ACO), state organization or some other grouping of practices. A practice is an outpatient facility in a specific location whose physicians and other providers share administrative and clinical support staff. Each practice located in a building containing multiple medical offices is considered a separate practice.

The goal of this project is to continue to update the CAHPS CG Database, with the latest results of the CAHPS CG Survey. These results consist of 37 items that measure 5 areas or composites of patients' experiences with physicians and staff in outpatient medical practices. This database will (1) allow participating organizations to compare their survey results with those of other outpatient medical groups; (2) facilitate internal assessment and learning in the quality improvement process; and (3) provide information to help identify strengths and areas with potential for improvement in patient care. The five composite measures are:

Getting Timely Appointments, Care, and Information

How Well Doctors Communicate With Patients

Helpful, Courteous, and Respectful Office Staff Follow-up on Test Results

Patients' Rating of the Doctor

This study is being conducted by AHRQ through its contractor, Westat, pursuant to AHRQ's statutory authority to conduct and support research on healthcare and on systems for the delivery of such care, including activities with respect to: The quality, effectiveness, efficiency, appropriateness and value of healthcare services; quality measurement and improvement; and health surveys and database development. 42 U.S.C. 299a(a)(1), (2), and (8).

Method of Collection

To achieve the goal of this project, the following activities and data collections will be implemented:

(1) Registration Form—The purpose of this form is to determine the eligibility status and initiate the registration process for participating organizations seeking to voluntarily submit their CAHPS CG Survey data to the CAHPS CG Comparative Database. The point of contact (POC) at the participating organization (or parent organization) will complete the form. The POC is either a corporate-level health care manager or a survey vendor who contracts with a participating organization to collect the CAHPS CG Survey data.

(2) Data Use Agreement—The purpose of this form is to obtain authorization from participating organizations to use their voluntarily submitted CAHPS CG Survey data for analysis and reporting according to the terms specified in the Data Use Agreement (DUA). The POC will complete the form.

(3) Data Submission—After the POC has completed the Registration Form and the Data Use Agreement, they will submit their patient-level data from the CAHPS CG Survey to the CAHPS CG Comparative Database. Data on the organizational characteristics such as ownership, number of patient visits per year and medical specialty, and information related to survey administration such as mode and dates of survey administration, sample size, and response rate, which are collected as part of CAHPS CG Survey operations, are also submitted. Each submission will consist of 3 data files: (1) A Group File that contains 5 information about the group ownership and size of group, (2) a Practice File containing type of practice, the practice ownership and affiliation (i.e., commercial, hospital or integrated delivery system, insurance company, university or medical school, community health center, VA or military) and number of patient visits per year, and, (3) a Sample File that contains one record for each patient surveyed, the date of visit, survey disposition code and information about survey completion.

Survey data from the CAHPS CG Database is used to produce three types of products: (1) An online reporting of results available to the public on the CAHPS User Network web site; (2) comparative reports that are confidential and customized for each participating organization (e.g., health system, medical group or practice) that submits data; and, (3) a database available to researchers for additional analyses.

Information for the CAHPS CG Database is collected by AHRQ through its contractor Westat. Participating organizations are asked to voluntarily submit their data to the CAHPS Database. The data is cleaned with standardized programs, then aggregated and used to produce comparative results. In addition, reports are produced that compare the participating organizations' results to the database in a password-protected section of the CAHPS Database online reporting system. Trend data will be available to participants when enough data is collected across consecutive years.

Estimated Annual Respondent Burden

Exhibit 1 shows the estimated annualized burden hours for participating organizations. The burden hours and costs below are based on an estimated number of participants. It is estimated that about 30 health systems, medical groups and practices will participate in the CAHPS CG Database. The number of data submissions per participating organization will vary because some participants may submit data for multiple practices, while others may only submit data for one.

The total burden for completing the registration, DUA and data submission process is estimated to be 246 hours. The 30 participating organizations that complete the registration form and submit information to the CAHPS CG Database are a combination of an estimated 20 health systems, medical groups and practices and 10 estimated vendors. Information about survey administration and the survey data files are submitted together for each participating organization.

Exhibit 1—Estimated Annualized Burden Hours
Form name | Number of respondents POCs | Number of responses per POC | Hours per response | Total burden hours
Registration Form | 30 | 1 | 6/60 | 3
Data Submission | 30 | 1 | 7 and 6/60 | 213
Data Use Agreement | 30 | 1 | 1 | 30
Total | 30 | NA | 8 and 12/60 | 246
Exhibit 2 shows the estimated annualized cost burden based on the respondents' time to complete the submission process. The cost burden is estimated to be $10,485 annually.

Exhibit 2—Estimated Annualized Cost Burden
Form name | Number of respondents | Total burden hours | Average hourly wage rate* | Total cost burden
Registration Form | 30 | 3 | 42.62 | 128
Data Submission | 30 | 213 | 42.62 | 9,078
Data Use Agreement | 30 | 30 | 42.62 | 1,279
Total | 30 | 246 | NA | 10,485
* Mean hourly wage rate of $42.62 for Medical and Health Services Managers (SOC code 19111) was obtained from the May 2009 National Industry-Specific Occupational Employment and Wage Estimates, NAICS 621100—Offices of Physicians located at http://www.bls.gov/oe5/2009/may/naic54_621100.htm.

Estimated Annual Cost to the Government

Exhibit 3 shows the estimated annualized cost to the government for developing, maintaining and managing the CAHPS CG Database, analyzing the data and reporting results. The cost is estimated to be $220,000 annually. Annualized costs for collecting and processing the CAHPS CG Database are based upon 10 years of historical CAHPS Health Plan Database project costs. AHRQ wishes to continue this data collection indefinitely and requests OMB approval for 3 years.

Exhibit 3—Estimated Annualized Cost
Cost component | Total cost | Annualized cost
Database Maintenance | $120,000 | $40,000
Data Submission | 240,000 | 80,000
Data Analysis and Reporting | 300,000 | 100,000
Total | 660,000 | 220,000

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and, (d) ways to minimize the burden of the collection of information upon the respondents, including the use of automated collection techniques or other forms of information technology.

Comments submitted in response to this notice will be summarized and included in the Agency's subsequent request for OMB approval of the proposed information collection. All comments will become a matter of public record.

Dated: January 20, 2012.
Carolyn M. Clancy,
Director.

[FR Doc. 2012-2129 Filed 1-31-12; 8:45 am]

BILLING CODE M